DEPARTMENT OF HOMELAND SECURITY

Coast Guard

[Docket No. USCG-2012-0212]

Navigation Safety Advisory Council; Vacancies

AGENCY: Coast Guard, DHS.

ACTION: Request for applications.

SUMMARY: The Coast Guard seeks applications for membership on the Navigation Safety Advisory Council (NAVSAC). NAVSAC provides advice and recommendations to the Secretary of Homeland Security, through the Commandant of the U.S. Coast Guard, on matters relating to maritime collisions, rammings, and groundings, Inland Rules of the Road, International Rules of the Road, navigation regulations and equipment, routing measures, marine information, diving safety, and aids to navigation systems.

DATES: Applicants must submit a cover letter and resume on or before June 29, 2012.

ADDRESSES: Applicants should send a cover letter and resume to Mr. Mike Sollosi, Alternate Designated Federal Officer (ADFO), at the following address: Commandant (CG-553), Attn: Mr. Mike Sollosi, U.S. Coast Guard, 2100 2nd Street SW., STOP 7580, Washington, DC 20593-7580.

You can also call 202-372-1531 or email Dennis.Fahr@uscg.mil. This notice is available in our online docket USCG-2012-0212, at http://www.regulations.gov. Members of the public should not submit personal information into a docket, as it becomes public record. During the vetting process, applicants may be asked to provide date of birth and social security number.

FOR FURTHER INFORMATION CONTACT: Mr. Mike Sollosi, the NAVSAC Alternate Designated Federal Officer (ADFO), at phone 202-372-1545, fax 202-372-1991, or email Mike.M.Sollosi@uscg.mil; or Mr. Dennis Fahr, at telephone 202-372-1531 or email Dennis.Fahr@uscg.mil.

SUPPLEMENTARY INFORMATION: The NAVSAC is a federal advisory committee authorized by 33 U.S.C. 2073 and chartered under the Federal Advisory Committee Act (Pub. L. 92-463; 5 U.S.C. App. 2). The NAVSAC provides advice and recommendations to the Secretary, through the Commandant of the U.S. Coast Guard, on matters relating to maritime collisions, rammings, and groundings, Inland Rules of the Road, International Rules of the Road, navigation regulations and equipment, routing measures, marine information, diving safety, and aids to navigation systems.

The NAVSAC is expected to meet at least twice each year, or more often with the approval of the Designated Federal Officer (DFO). Members may be reimbursed for travel and per diem, as allowed by regulations and Department policy. All travel for NAVSAC business must be approved in advance by the DFO. The NAVSAC is comprised of not more than 21 members who shall have expertise in Inland and International vessel navigation Rules of the Road, aids to maritime navigation, maritime law, vessel safety, port safety, or commercial diving safety. Each member shall be appointed to represent the viewpoints and interests of one of the following groups or organizations, and at least one member shall be appointed to represent each membership category:

a. Commercial vessel owners or operators

b. Professional mariners

c. Recreational boaters

d. The recreational boating industry

e. State agencies responsible for vessel or port safety

f. The Maritime Law Association.

Members serve as representatives and are not Special Government Employees as defined in section 202(a) of Title 18, United States Code.

The Coast Guard will consider applications for eight positions that will become vacant on November 4, 2012, in the following categories:

a. Commercial vessel owners or operators

b. Professional mariners

c. Recreational boaters

d. The recreational boating industry

e. State agencies responsible for vessel or port safety.

To be eligible, you should have experience in one of the categories listed above.

Members shall serve terms of office of up to three years, and approximately one-third of members' terms of office shall expire each year. In the event NAVSAC is terminated, all appointments to the Council shall terminate.

Registered lobbyists are not eligible to serve on Federal advisory committees. Registered lobbyists are lobbyists required to comply with provisions contained in the Lobbying Disclosure Act of 1995 (Pub. L. 104-65 as amended).

The Department of Homeland Security (DHS) does not discriminate in employment on the basis of race, color, religion, sex, national origin, political affiliation, sexual orientation, gender identity, marital status, disability and generic information, age, membership in an employee organization, or other non-merit factor. DHS strives to achieve a widely diverse candidate pool for all of its recruitment actions.

Dated: March 9, 2012.
Dana A. Goward,
Director, Marine Transportation Systems Management, U.S. Coast Guard.

[FR Doc. 2012-6378 Filed 3-15-12; 8:45 am]

BILLING CODE 9110-04-P